NATIONAL ARCHIVES AND RECORDS ADMINISTRATION

Nixon Presidential Historical Materials; Opening of Materials

AGENCY: National Archives and Records Administration.

ACTION: Notice of opening of materials.

SUMMARY: This notice announces the opening of additional files from the Nixon Presidential Historical Materials. Notice is hereby given that, in accordance with sections 104 of Title I of the Presidential Recordings and Materials Preservation Act (PRMPA, 44 U.S.C. 2111 note) and § 1275.42(b) of the PRMPA Regulations implementing the Act (36 CFR Part 1275), the agency has identified, inventoried, and prepared for public access integral file segments among the Nixon Presidential Historical Materials.

DATES: The National Archives and Records Administration (NARA) intends to make these materials described in this notice available to the public beginning Wednesday, November 28, 2007.

In accordance with 36 CFR 1275.44, any persons who believe it necessary to file a claim of legal right or privilege concerning access to these materials must notify the Archivist of the United States in writing of the claimed right, privilege, or defense before Friday, November 23, 2007.

ADDRESSES: The materials will be made available to the public at the National Archives at College Park, located at 8601 Adelphi Road, College Park, Maryland beginning at 10 a.m. on Wednesday, November 28, 2007. Researchers must have a NARA researcher card, which they may obtain when they arrive at the facilities.

Petitions asserting a legal or constitutional right or privilege which would prevent or limit access must be sent to the Archivist of the United States, National Archives at College Park, 8601 Adelphi Road, College Park, Maryland 20740-6001.

FOR FURTHER INFORMATION CONTACT: Timothy Naftali, Director, Richard Nixon Presidential Library, 714-938-3117 or 301-837-3117.

SUPPLEMENTARY INFORMATION: The following files will be made available in accordance with this notice.

1. Previously restricted materials. Volume: 4 cubic feet

A number of documents which were previously withheld from public access have been reviewed for release and/or declassified under the mandatory review provisions of Executive Order 12958, as amended, or in accordance with 36 CFR 1275.56 (Public Access Regulations). The documents are from file segments for the White House Special Files, Staff Member and Office Files; the National Security Council File series including the Henry A. Kissinger Office Files and the National Security Council Institutional Files.

2. Alpha Name Files:

Allen, George

Annenberg, Walter

Bore

Byrd, Robert

Cheney, L-R

Felt

Greenspan, A-E

Hope, Bob

Hughes, Helena

Kaplan, P.

Lavrakas, Paul

Palmer, A

Presley, A-E

Reagan, Ronald

Rosenbaum, A-C

Rumsfeld, Donald

Sinatra, Frank

Snow, J

Stevens, John

Sullivan, (Rev) Leon Howard

Thurlow

3. White House Central Files, Staff Member and Office Files, White House Press Office Files. Volume: 52 cubic feet.

The files contain materials created by the Press Office for distribution to the media including White House press releases and press conference transcripts.

4. White House Central Files, Oversized Attachments Files. Volume: <1 cubic foot.

These three files are Oversized Attachment Files #5185, #10408, and #12546 which are cross-referenced to the Labor-Management (LA) Series of the White House Central Files, Subject Files. The Oversized Attachment Files were a means of filing and organizing materials that were too bulky or odd-sized to be placed in a file folder.

5. Record Group 220, Records of Temporary Committees, Commissions, and Boards, Records of the Cabinet Committee on Education. Volume: 14 cubic feet.

The Cabinet Committee on Education served as a Federal Government point of contact for states undergoing school desegregation.

Dated: October 18, 2007.
Allen Weinstein,
Archivist of the United States.

[FR Doc. E7-20968 Filed 10-23-07; 8:45 am]

BILLING CODE 7515-01-P